ENVIRONMENTAL PROTECTION AGENCY

[OPP-2002-0334; FRL-7283-5]

Exposure Modeling Work Group; Notice of Public Meeting

AGENCY: Environmental Protection Agency (EPA).

ACTION: Notice.

SUMMARY: The Exposure Modeling Work Group (EMWG) will hold a 1-day meeting on December 17, 2002. This notice announces the location and time for the meeting and sets forth the tentative agenda topics.

DATES: The meeting will be held on Tuesday, December 17, 2002, from 9 a.m. to 3 p.m.

ADDRESSES: The meeting will be held at the Office of Pesticide Programs (OPP), Environmental Protection Agency, Crystal Mall #2, Room 311, 1921 Jefferson Davis Hwy., Arlington, VA.

FOR FURTHER INFORMATION CONTACT: Michael R. Barrett, Environmental Fate and Effects Division (7507C), Office of Pesticide Programs, Environmental Protection Agency, 1200 Pennsylvania Ave., NW., Washington, DC 20460-0001; telephone number: (703) 305-6391; fax number: (703) 308-6309; e-mail address: barrett.michael@epa.gov.

SUPPLEMENTARY INFORMATION:

I. General Information

A. Does this Action Apply to Me?

This action is directed to the public in general, and may be of particular interest to those persons who are or may be required to conduct testing of chemical substances under the Toxic Substances Control Act (TSCA), the Federal Food, Drug, and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2002-0334. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crstal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Background

The Exposure Modeling Workgroup meets on a roughly quarterly interval to discuss current issues in modeling pesticide fate, transport, and exposure to pesticides in support of risk assessments in a regulatory context.

III. How Can I Request to Participate in this Meeting?

You may submit a request to participate in this meeting to the person listed under FOR FURTHER INFORMATION CONTACT.

IV. Tentative Agenda

This unit provides tentative agenda topics for the 1-day meeting.

1. Welcome and introductions.

2. Old action items.

3. Brief Updates

• EPA's pesticide root zone model/exposure analysis modeling system (PRZM/EXAMS) model.

• Spray drift task force progress.

• Rice modeling.

• European union activities.

• United States Department of Agriculture (USDA) agricultural research service activities.

• Environmental fate data base.

• New meteorological files.

• Turf umbrella.

• WARP model.

4. Major Topics

• EFED water quality priorities for FY 2003 - themes for 2003.

• European Union activities: FOCUS ground water and surface water assessment methods, mitigation measures and processes for refining risk assessments.

• Prospective ground water data base - data reporting and formatting issues.

• USDA research service - efforts to address needs of regulators in their pesticide mitigation and modeling research, results of recent workshop.

List of Subjects

Environmental protection, Pesticides and pests.

Dated: December 10, 2002.
Steven Bradbury,
Director, Environmental Fate and Effects Division, Office of Pesticide Programs.

[FR Doc. 02-31613 Filed 12-12-02; 9:03 am]

BILLING CODE 6560-50-S